DEPARTMENT OF HEALTH AND HUMAN SERVICES

Health Resources and Services Administration

Agency Information Collection Activities; Proposals, Submissions, and Approvals: Practitioner Data Bank for Adverse Information on Physicians and Other Health Care Practitioners

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: National Practitioner Data Bank for Adverse Information on Physicians and Other Health Care Practitioners—45 CFR Part 60 Regulations and Forms (OMB No. 0915-0126)—Extension.

The National Practitioner Data Bank (NPDB) was established through Title IV of Public Law (Pub. L.) 99-660, the Health Care Quality Improvement Act of 1986, as amended. Final regulations governing the NPDB are codified at 45 CFR part 60. Responsibility for NPDB implementation and operation resides in the Bureau of Health Professions, Health Resources and Services Administration, Department of Health and Human Services (HHS). The NPDB began operation on September 1, 1990.

The intent of Title IV of Public Law 99-660 is to improve the quality of health care by encouraging hospitals, State licensing boards, professional societies, and other entities providing health care services, to identify and discipline those who engage in unprofessional behavior; and to restrict the ability of incompetent physicians, dentists, and other health care practitioners to move from State to State without disclosure of the practitioner's previous damaging or incompetent performance.

The NPDB acts primarily as a flagging system; its principal purpose is to facilitate comprehensive review of practitioners' professional credentials and background. Information on medical malpractice payments, adverse licensure actions, adverse clinical privileging actions, adverse professional society actions, and Medicare/Medicaid exclusions is collected from, and disseminated to, eligible entities (entities that are entitled to query and/or report to the NPDB under the provisions of 45 CFR part 60). It is intended that NPDB information should be considered with other relevant information in evaluating a practitioner's credentials.

The reporting forms and the request for information forms (query forms) are accessed, completed, and submitted to the NPDB electronically through the NPDB Web site at http://www.npdb-hipdb.hrsa.gov/. All reporting and querying is performed through this secure Web site. Due to overlap in requirements for the Healthcare Integrity and Protection Data Bank (HIPDB), some of the NPDB's burden has been subsumed under the HIPDB.

Estimates of Annualized Burden Are as Follows:

Regulation citation | Number of respondents | Responses per respondent | Total responses | Hours per response (min). | Total burden hours | Wage rate | Total cost
60.6(a) Errors & Omissions | 315 | 5 | 1,260 | 15 | 315 | $25 | $7,875.00
60.6(b) Revisions to Action | 109 | 1 | 109 | 30 | 54.5 | 25 | 1,362.50
60.7(b) Medical Malpractice Payment Report | 519 | 29 | 15,051 | 45 | 11,288.25 | 25 | 282,206.25
60.8(b) Adverse Action Reports—State Boards | 0 | 0 | 0 | 0 | 0 | 0 | 0
60.11(a)(3) Adverse Action | 480 | 2 | 960 | 45 | 720 | 25 | 18,000
60.11(c) Requests for Hearings by Entities | 0 | 0 | 0 | 480 | 0 | 200 | 0
60.12(a)(1) & (2) Queries by Hospital | 5,996 | 213 | 1,277,148 | 5 | 106,429 | 25 | 2,660,725
60.13(a)(1)(i) Disclosure to Hospitals | 0 | 0 | 0 | 0 | 0 | 0 | 0
60.13(a)(1)(ii) Disclosure to Practitioners (Self Query) | 0 | 0 | 0 | 0 | 0 | 0 | 0
60.13(a)(1)(iii) Disclosure to Licensure Boards | 87 | 645 | 56,115 | 5 | 4,676.25 | 25 | 116,906.25
60.13(a)(1)(iv) Queries by Non-Hospital Health Care Entities | 7,305 | 322 | 2,352,210 | 5 | 196,017.5 | 25 | 4,900,437.50
60.13(a)(i)(v) Queries by Plaintiffs' Attorneys | 5 | 1 | 5 | 30 | 2.5 | 200 | 500.00
60.13(a)(1)(vi) Queries by Non-Hospital Health Care Entities—Peer Review | 0 | 0 | 0 | 0 | 0 | 0 | 0
60.13(a)(i)(vii) Requests by Researchers for Aggregate Data | 20 | 1 | 20 | 30 | 10 | 38 | 380.00
60.16(b) Practitioner Places a Report in Disputed Status | 404 | 1 | 404 | 15 | 101 | 45 | 4,545.00
60.16(b) Practitioner Statement | 1,415 | 1 | 1,415 | 45 | 1,061.25 | 100 | 106,125.00
60.16(b) Practitioner Requests for Secretarial Review | 27 | 1 | 27 | 480 | 216 | 200 | 43,200.00
60.3 Entity Registration—Initial | 1,447 | 1 | 1,447 | 60 | 1,447 | 25 | 36,175
60.3 Entity Registration—Update | 13,115 | 1 | 13,115 | 5 | 1,092.92 | 25 | 27,323
60.13(a) Authorized Agent Designation—Initial | 717 | 1 | 717 | 15 | 179.25 | 25 | 4,481.25
60.13(a) Authorized Agent—Update | 139 | 1 | 139 | 5 | 11.58 | 25 | 289.50
60.14(c) Account Discrepancy Report | 5 | 1 | 5 | 15 | 1.25 | 25 | 31.25
60.14(c) Electronic Funds Transfer Authorization | 284 | 1 | 284 | 15 | 71 | 25 | 1,775.00
60.3 Entity Reactivation | 0 | 0 | 0 | 0 | 0 | 0 | 0
Total | 32,389 |  | 3,720,431 |  | 323,694.25 |  | 8,212,337.5

Written comments and recommendations concerning the proposed information collection should be sent within 30 days of this notice to the desk officer for HRSA, either by e-mail to OIRA_submission@omb.eop.gov or by fax to 202-395-6974. Please direct all correspondence to the “attention of the desk officer for HRSA.”

Dated: June 29, 2010.
Sahira Rafiullah,
Director, Division of Policy Information and Coordination.

[FR Doc. 2010-16399 Filed 7-6-10; 8:45 am]

BILLING CODE P